DEPARTMENT OF ENERGY

Federal Energy Regulatory Commission

Combined Notice of Filings

Take notice that the Commission has received the following Natural Gas Pipeline Rate and Refund Report filings:

Filings Instituting Proceedings

Docket Numbers: PR21-57-001.

Applicants: Louisville Gas and Electric Company.

Description: Submits tariff filing per 284.123(b), (e)/: Amendment to Filing of Revised Statement of Operating Conditions to be effective 7/1/2021.

Filed Date: 11/2/21.

Accession Number: 20211102-5145.

Comments/Protests Due: 5 p.m. ET 11/23/21.

Docket Numbers: RP20-980-006.

Applicants: East Tennessee Natural Gas, LLC.

Description: East Tennessee Natural Gas, LLC submits tariff filing per 154.203: East Tennessee RP20-980 Compliance Filing to be effective 1/1/2021.

Filed Date: 11/01/2021.

Accession Number: 20211101-5034.

Comment Date: 5 p.m. 11/15/21.

Docket Numbers: RP22-183-000.

Applicants: Empire Pipeline, Inc.

Description: § 4(d) Rate Filing: Empire Housekeeping Filing—November 2021 to be effective 12/3/2021.

Filed Date: 11/3/21.

Accession Number: 20211103-5086.

Comment Date: 5 p.m. ET 11/15/21.

Docket Numbers: RP22-184-000.

Applicants: Enable Gas Transmission, LLC.

Description: Compliance filing: EGT-NAESB 3.2 Compliance Filing to be effective 6/1/2022.

Filed Date: 11/3/21.

Accession Number: 20211103-5099.

Comment Date: 5 p.m. ET 11/15/21.

Docket Numbers: RP22-185-000.

Applicants: Enable Mississippi River Transmission, LLC.

Description: Compliance filing: MRT-NAESB 3.2 Compliance Filing to be effective 6/1/2022.

Filed Date: 11/3/21.

Accession Number: 20211103-5102.

Comment Date: 5 p.m. ET 11/15/21.

Docket Numbers: RP22-186-000.

Applicants: Golden Pass Pipeline LLC.

Description: Compliance filing: Golden Pass Pipeline Revised Tariff Records Re: Order 587-Z to be effective 6/1/2022.

Filed Date: 11/3/21.

Accession Number: 20211103-5133

Comment Date: 5 p.m. ET 11/15/21.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP22-158-001.

Applicants: Rover Pipeline LLC.

Description: Compliance filing: Correction to RVR Cost & Revenue Study in Compliance with CP15-93-000 et al. to be effective N/A.

Filed Date: 11/3/21.

Accession Number: 20211103-5110.

Comment Date: 5 p.m. ET 11/15/21.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 4, 2021.
Debbie-Anne A. Reese,
Deputy Secretary.

[FR Doc. 2021-24593 Filed 11-9-21; 8:45 am]

BILLING CODE 6717-01-P